DEPARTMENT OF HOMELAND SECURITY

Federal Emergency Management Agency

44 CFR Part 67

[Docket No. FEMA-P-7649]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground *Elevation in Feet* (NGVD): Existing | #Depth in feet above ground *Elevation in Feet* (NGVD): Modified
AR | Arkadelphia (City) Clark County | Mill Creek | Approximately 1,820 feet downstream of North Eighth Street | *192 | *193
|  |  | Approximately 2,800 feet upstream of 26th Street | *248 | *245
|  | Maddox Branch | Approximately 25 feet downstream of Union Pacific Railroad | *None | *186
|  |  | Approximately 425 feet upstream of South 12th Street | *None | *207
Maps are available for inspection at the Town Hall, 700 Clay Street, 121, Arkadelphia, Arkansas.
Send comments to Ms. Barbara Coplen, City Manager, City of Arkadelphia, Town Hall, 700 Clay Street, Arkadelphia, Arkansas 71923.
LA | Jonesville (Town) Catahoula Parish | Black River | Approximately 4,100 feet downstream of U.S. Highway 84 | *None | *63
|  |  | At the confluence of Little River | *None | *63
|  | Little River | At the confluence with Black River | *None | *63
|  |  | Approximately 100 feet upstream of the divergence of Airport Canal | *None | *63
Maps are available for inspection at the Town Hall, 400 Third Street, Jonesville, Louisiana.
Send comments to The Honorable Mike Wilson, Mayor, Town of Jonesville, Town Hall, 400 Third Street, Jonesville, Louisiana 71343.
NE | Otoe County (Unincorporated Areas) | Little Nemaha River | Approximately 7,450 feet downstream of State Highway 67 | *None | *970
|  |  | Approximately 7,550 feet upstream of State Highway 67 | *None | *982
Maps are available for inspection at the County Courthouse, 1021 Central Avenue, Nebraska City, Nebraska
Send comments to Ms. Joy W. Schroder, Chairperson, Otoe County Board of Commissioners, P.O. Box 493, Nebraska City, Nebraska 68410.
*National Geodetic Vertical Datum of 1929.

(Catalog of Federal Domestic Assistance No. 83.100, “Flood Insurance.”)
Dated: June 29, 2004.
David I. Maurstad,
Acting Director, Mitigation Division, Emergency Preparedness and Response Directorate.

[FR Doc. 04-15297 Filed 7-6-04; 8:45 am]

BILLING CODE 9110-12-P